DEPARTMENT OF JUSTICE

Antitrust Division

Notice Pursuant to the National Cooperative Research and Production Act of 1993—Information Warfare Research Project Consortium

Notice is hereby given that, on July 9, 2025, pursuant to section 6(a) of the National Cooperative Research and Production Act of 1993, 15 U.S.C. 4301 et seq. (“the Act”), Information Warfare Research Project Consortium (“IWRP Consortium”) has filed written notifications simultaneously with the Attorney General and the Federal Trade Commission disclosing changes in its membership. The notifications were filed for the purpose of extending the Act's provisions limiting the recovery of antitrust plaintiffs to actual damages under specified circumstances. Specifically, AISensation LLC, Mission Viejo, CA; Allen Control Systems, Inc., Austin, TX; Alpha Omega Integration LLC, Vienna, VA; AMPEX Data Systems Corp., Hayward, CA; Analytics HQ LLC, Suwanee, GA; AndrenaM, Inc., Santa Clarita, CA; Appian Corp., Tysons, VA; Arizona State University, Tempe, AZ; Armada Systems, Inc., San Francisco, CA; Belcan Government Solutions, Inc., Sterling, VA; Blue Water Autonomy, Inc., Brookline, MA; C5MI Insight LLC, Jacksonville Beach, FL; Carley Corp., Orlando, FL; Carnegie Mellon University dba Software Engineering Institute, Pittsburgh, PA; CIYIS LLC, Atlanta, GA; CPI SATCOM and Antenna Technologies, Inc., Plano, TX; Cyber-Ark Software, Inc. Newton, MA; Defense Operations & Execution Solutions, Inc., W Melbourne, FL; DRACOFORCE, Inc., Castle Rock, CO; Enterprise Horizon Consulting Group, San Francisco, CA; eQ Technologic, Inc. Fort Washington, PA; Fearless Solutions LLC, Baltimore, MD; Greymatter.io, Inc., Arlington, VA; HRL Laboratories LLC, Malibu, CA; iDirect Government LLC, Herndon, VA; InfoTechSVP LLC, San Diego, CA; IntelliGenesis LLC, Columbia, MD; Intellipower, Inc., Orange, CA; iWorks Corp., Reston, VA; Katz Water Technologies, Inc., Houston, TX; KENTCO Corp., Herndon, VA; Kestrel Intelligence, Inc., Eagle, ID; Maximus Federal Services, Inc., McLean, VA; Nexutek LLC, Leonardtown, MD; NOVA Power Solutions, Inc., Sterling, VA; NTELIGEN LLC, Columbia, MD; Office Remedies, Inc., Herndon, VA; Onebrief, Inc., Honolulu, HI; Oneida Professional Services LLC, Milwaukee, WI; Park-Tours, Inc., Escondido, CA; Phaeton Solutions LLC, Reston, VA; Quest Software Public Sector, Inc., Ashburn, VA; Quiet Professionals LLC, Tampa, FL; Redwood Strong LLC, Roanoke, TX; SentinelOne, Inc., Mountain View, CA; Significance, Inc., Annapolis, MD; Triple Crown Consulting LLC, Austin, TX; Woods Hole Oceanographic Institution, Woods Hole, MA, have been added as parties to this venture.

Also, Ascension Engineering Group, Colorado Springs, CO; Cydecor, Inc., Arlington, VA; Milpower, Inc., Nampda, ID; Polaron Technologies, Miamisburg, OH, have withdrawn as parties to this venture.

No other changes have been made in either the membership or planned activity of the group research project. Membership in this group research project remains open, and IWRP Consortium intends to file additional written notifications disclosing all changes in membership.

On October 15, 2018, IWRP Consortium filed its original notification pursuant to section 6(a) of the Act. The Department of Justice published a notice in the Federal Register pursuant to section 6(b) of the Act on October 23, 2018 (83 FR 53499).

The last notification was filed with the Department on April 9, 2025. A notice was published in the Federal Register pursuant to section 6(b) of the Act on April 23, 2025 (90 FR 17079).

Suzanne Morris,
Deputy Director Civil Enforcement Operations, Antitrust Division.

[FR Doc. 2025-15500 Filed 8-14-25; 8:45 am]

BILLING CODE P